DEPARTMENT OF THE INTERIOR

Bureau of Land Management

[MO #4500171195]

Notice of Availability of the Record of Decision and Approved Resource Management Plan Amendment for the SunZia Southwest Transmission Project, New Mexico and Arizona

AGENCY: Bureau of Land Management, Interior.

ACTION: Notice of availability.

SUMMARY: The Bureau of Land Management (BLM) announces the availability of the Record of Decision approving an amendment to the right-of-way for the SunZia Southwest Transmission Project and the Approved Resource Management Plan Amendment for the Socorro Approved Resource Management Plan located in the Socorro Field Office planning area.

DATES: The Principal Deputy Assistant Secretary for Land and Minerals Management signed the Record of Decision/Approved Resource Management Plan Amendment on May 16, 2023, which constitutes the final decision of the Department of the Interior.

ADDRESSES: The Record of Decision/Approved Resource Management Plan Amendment is available online at https://eplanning.blm.gov/eplanning-ui/project/2011785/510. Printed copies of the Record of Decision/Approved Resource Management Plan Amendment are available for public inspection at the BLM New Mexico State Office at 301 Dinosaur Trail, Santa Fe, NM 87508; the BLM Arizona State Office at One North Central Ave., Ste. 800, Phoenix, AZ 85004; the BLM Las Cruces District Office at 1800 Marquess Street, Las Cruces, NM 88005; the BLM Socorro Field Office at 901 South Highway 85, Socorro, NM 87801; the BLM Safford Field Office at 711 14th Ave., Safford, AZ 85546; the BLM Tucson Field Office at 3201 E Universal Way, Tucson, AZ 85756; the Cibola National Forest Supervisor's Office at 2113 Osuna Rd. NE, Albuquerque, NM 87113; and the Sevilleta National Wildlife Refuge at 40 Refuge Road San, Acacia, NM 87831; or can be provided upon request by contacting BLM Project Manager Virginia Alguire at valguire@blm.gov or 575-838-1290.

A copy of the Protest Resolution Report is available at: https://www.blm.gov/programs/planning-and-nepa/public-participation/protest-resolution-reports.

FOR FURTHER INFORMATION CONTACT: The BLM Project Manager Virginia Alguire via telephone: 575-838-1290; address: 901South Highway 85, Socorro, New Mexico, 87801; or email: valguire@blm.gov. Individuals in the United States who are deaf, deafblind, hard of hearing, or have a speech disability may dial 711 (TTY, TDD, or TeleBraille) to access telecommunications relay services for contacting Ms. Alguire. Individuals outside the United States should use the relay services offered within their country to make international calls to the point-of-contact in the United States.

SUPPLEMENTARY INFORMATION: The Principal Deputy Assistant Secretary for Land and Minerals Management issued a Record of Decision approving an amendment to SunZia Transmission, LLC's right-of-way and an amendment to the existing Socorro Resource Management Plan to allow for the designation of a 400-foot-wide right-of-way through the BLM right-of-way avoidance area. Based on the environmental analysis and input from stakeholders, cooperating agencies, and Tribes, the BLM has identified the Agency Preferred Alternative described in the Final Environmental Impact Statement as the Selected Alternative in the Record of Decision. The Selected Alternative will allow the BLM to issue a right-of-way grant amendment to SunZia Transmission, LLC to use public land administered by the BLM for the Project for the term of the original right-of-way grant. The Record of Decision also approves an amendment to the Socorro Resource Management Plan. The Selected Alternative does not impact right-of-way exclusion areas, the Ladron Mountain Devil's Backbone Complex Area of Critical Environmental Concern, or any visual resource management classes, and thus no plan amendments were required to address these management prescriptions. The Record of Decision provides additional details on the Socorro Resource Management Plan Amendment.

The BLM's Selected Alternative is as follows:

• Component 1: Localized route modifications 1-5, and the 2015 Selected Route (the no action alternative in the Final Environmental Impact Statement) for local route modification 6 in the Pinal Central area;

• Component 2: All access roads and temporary workspaces outside the granted right-of-way;

• Component 3: Alternative Route 2 (Subroute 2A-1) and Alternative Route 3 (Subroute 3A-1), which include crossing the Sevilleta National Wildlife Refuge as well as paralleling the SunZia Transmission Line with the Western Spirit 345-kilovolt Transmission Line at the Rio Grande crossing. For Subroute 3A-1, the agency Selected Alternative includes Local Alternative 3B-2 to avoid two private residences near the Project; and

• Component 4: The 2015 Selected Alternative co-locates the ground disturbance associated with the high-voltage direct-current converter station (the SunZia West Substation) with the existing development and ground disturbance associated with the Salt River Project Pinal Central Substation.

The BLM incorporated consideration of the Resource Management Plan amendment into the National Environmental Policy Act process through regular consultation with cooperating agencies, including regular project meetings and invitations to participate in issue identification, analysis planning, and administrative document reviews.

The BLM provided the Proposed Resource Management Plan Amendment for public protest on February 17, 2023, for a 30-day protest period and received three valid protests. The BLM Assistant Director for Resources and Planning resolved all protests. Responses to protest issues were compiled and documented in a Protest Resolution Report (see ADDRESSES).

The BLM provided the Proposed Resource Management Plan Amendment to the Governor of New Mexico for a 60-day Governor's consistency review. The Governor's Consistency review period ended April 19, 2023. The New Mexico Governor's Office provided consistency review comments on April 13, 2023. The comments indicated the SunZia Final Environmental Impact Statement and the amendments it would make to the existing approved route for the SunZia Project provides consistency between BLM resource management plans and applicable state laws, policies, and programs. The State of New Mexico stands in support of the BLM's February 17, 2023, Final Environmental Impact Statement and Proposed Resource Management Plan Amendments for the SunZia Southwest Transmission Project.

The BLM's Assistant Director for Resources and Planning concluded that the BLM New Mexico State Director followed the applicable laws, regulations, and policies and considered all relevant resource information and public input. The Assistant Director addressed the protests and issued a Protest Resolution Report to protesting parties and posted the report on the BLM's website (https://www.blm.gov/programs/planning-and-nepa/public-participation/protest-resolution-reports); no changes to the Proposed Resource Management Plan Amendment were necessary.

The SunZia Southwest Transmission Line Project is a “covered project” under 42 U.S.C. 4370m. This notice serves the purpose identified in 42 U.S.C. 4370m-6(a)(1)(A).

(Authority: 40 CFR 1506.6; 43 CFR 1610.5-1; 42 U.S.C. 4370m-6(a)(1)(A))

Melanie G. Barnes,
State Director.

[FR Doc. 2023-10784 Filed 5-18-23; 8:45 am]

BILLING CODE 4331-23-P